ENVIRONMENTAL PROTECTION AGENCY

[EPA-HQ-OPP-2023-0074; FRL-11590-01-OCSPP]

Cancellation Order for Certain Pesticide Registrations and Amendments to Terminate Uses

Correction

In notice document 2023-28547, beginning on page 89448 in the issue of Wednesday, December 27, 2023, make the following correction:

On page 89449, in the first column, beginning on the 13th line beneath the “Section IV. Cancellation Order” the text “[INSERT DATE OF PUBLICATION IN THE Federal Register]” should read “December 27, 2023”.

[FR Doc. C1-2023-28547 Filed 2-7-24; 8:45 am]

BILLING CODE 0099-10-D